DEPARTMENT OF THE INTERIOR

National Park Service

[NPS-WASO-NAGPRA-NPS0040083; PPWOCRADN0-PCU00RP14.R50000]

Notice of Intent To Repatriate Cultural Items: California State University, Sacramento, Sacramento, CA

AGENCY: National Park Service, Interior.

ACTION: Notice.

SUMMARY: In accordance with the Native American Graves Protection and Repatriation Act (NAGPRA), the California State University, Sacramento intends to repatriate certain cultural items that meet the definition of objects of cultural patrimony and that have a cultural affiliation with the Indian Tribes or Native Hawaiian organizations in this notice.

DATES: Repatriation of the cultural items in this notice may occur on or after June 9, 2025.

ADDRESSES: Dr. Mark Wheeler, Chief of Staff to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in the summary or related records. The National Park Service is not responsible for the determinations in this notice.

Abstract of Information Available

A total of 442 cultural items have been requested for repatriation. The 442 objects of cultural patrimony include flaked and ground stones; faunal and floral remains; modified stone, shell and wood objects; unmodified stones; historic materials; manuports; geologic samples; and pigments. Of this number, at least 10 objects are currently missing from the collections. California State University, Sacramento continues to look for any missing objects. These objects were removed from several sites in Calaveras County in the 1960's and 1970's as the result of various survey and excavation projects carried out near San Domingo Creek, the Stanislaus River, and other locations by California State University, Sacramento students J. Michael McEachern, Louis Payen, Michael Rondeau, and Judy Rose. These sites include CAL-693/H (also known as Murphy's Rancheria), CAL-1073 (also known as the Avery Site), CAL-1256, CAL-1258, CAL-1261, CAL-Dead Horse Flat #1, CAL-Skunk Gulch #1, CAL-Skunk Gulch #2, CAL-Unknown (also known as 4-282), CAL-Unknown (also known as 4-283), CAL-Unknown (also known as 4-284), CAL-Unknown (also known as 4-259), CAL-Unknown (also known as 4-262 or 5-262), CAL-Unknown (also known as 4-263 or 5-263), CAL-Unknown (also known as 4-267 or 5-267), CAL-Unknown (also known as 4-270 or 5-270), CAL-Unknown (also known as 4-271 or 5-271), CAL-Unknown (near San Domingo Creek), CAL-Cook Ranch, CAL-Browns Cave, CAL-Unknown (also known as Cal 258), CA-CAL-Vallecito Quarry Site. These objects have since been housed at the California State University, Sacramento under accessions 81-372, 81-342, 81-422, 81-371, 81-376, 81-356, 81-434, 81-431, 81-437, 81-438, 81-439, 81-433, 81-370, 81-373, 81-424, 81-374, 81-423, 81-436, 81-440, 81-435, 81-432, and 81-86.

A total of 79 cultural items have been requested for repatriation. The 79 objects of cultural patrimony include flaked and ground stones; modified stone and shell objects; faunal remains; historic materials; and baskets. Of this number, at least six objects are currently missing from the collection. California State University, Sacramento continues to look for any missing objects. In 1970's, Mark Grady donated 78 objects to the University's Anthropology Museum from several sites in Calaveras County that include Camanche Dam, Angel's Camp, Avery's Dump, Snowshoe Springs, Winslow Ranch, Murphy's Burial Ground, Fly-in-Acres, and unknown locations in Calaveras County. They have since been housed at the University under accession 1974-18. The estate of Anthony Zallio donated a single basket from an unknown location in Calaveras County to the Anthropology Museum in the 1950's. It has since been housed at the University under accession 1974-29.

Determinations

The California State University, Sacramento has determined that:

• The 521 objects of cultural patrimony described in this notice have ongoing historical, traditional, or cultural importance central to the Native American group, including any constituent sub-group (such as a band, clan, lineage, ceremonial society, or other subdivision), according to the Native American traditional knowledge of an Indian Tribe or Native Hawaiian organization.

• There is a relationship of shared group identity that can be reasonably traced between the cultural items and the California Valley Miwok Tribe, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 9, 2025. If competing requests for repatriation are received, the California State University, Sacramento must determine the most appropriate requestor prior to repatriation. Requests for joint repatriation of the cultural items are considered a single request and not competing requests. The California State University, Sacramento is responsible for sending a copy of this notice to the Indian Tribes and Native Hawaiian organizations identified in this notice and to any other consulting parties.

Authority: Native American Graves Protection and Repatriation Act, 25 U.S.C. 3004 and the implementing regulations, 43 CFR 10.9.

Dated: April 22, 2025.
Melanie O'Brien,
Manager, National NAGPRA Program.

[FR Doc. 2025-08032 Filed 5-7-25; 8:45 am]

BILLING CODE 4312-52-P